DEPARTMENT OF AGRICULTURE

Federal Crop Insurance Corporation

7 CFR Parts 460

[Docket ID FCIC-22-0001]

RIN 0563-AC77

Pandemic Cover Crop Program; Correction

AGENCY: Federal Crop Insurance Corporation, U.S. Department of Agriculture (USDA).

ACTION: Final rule; correction.

SUMMARY: Due to inadvertently having not included valid cover cropping practices because of the timing of acreage reporting, the Federal Crop Insurance Corporation (FCIC) is correcting a final rule that published in the Federal Register on February 11, 2022. The final rule announced the Pandemic Cover Crop Program (PCCP) that provides support for agricultural producers impacted by the COVID-19 pandemic for the 2022 crop year. With a specific focus on strengthening outreach to underserved producers and communities and small and medium agricultural operations, USDA dedicated funding to reaching a broader set of producers than was reached in previous COVID-19 assistance programs. As a part of that initiative, the final rule established PCCP for 2022.

DATES: Effective April 12, 2022.

FOR FURTHER INFORMATION CONTACT: David Zanoni; telephone (816) 926-6142; email david.zanoni@usda.gov. Persons with disabilities who require alternative means of communication should contact the USDA Target Center at (202) 720-2600 or 844-433-2774.

SUPPLEMENTARY INFORMATION: In FR Doc. 2022-02965, which published on February 11, 2022 at 87 FR 7927, the following corrections are made:

1. On page 7929, in the second column, correct the definition of “eligible insured acres” and in the third column, correct the definition of “eligible WFRP acres” to read as follows:

§ 460.9 [Corrected]

* * * * *

Eligible insured acres means insured acres on which the producer planted a qualifying cover crop after June 15, 2021, during the 2021 crop year, or during the 2022 crop year, as reported on the Farm Service Agency's (FSA) common land unit(s) (CLU) to FSA via a completed and signed Form 578-Report of Acreage on or before March 15, 2022, or May 31, 2022, for 2022 crop year qualifying cover crops planted after March 15, 2022, which may be prior to FSA's acreage reporting date, and reported the same CLU(s) on their crop insurance acreage report by the applicable Federal crop insurance acreage reporting date for a 2022 crop year crop insurance policy for a first insured crop.

* * * * *

Eligible WFRP acres means acres on which a person with a 2022 crop year WFRP policy planted a qualifying cover crop after June 15, 2021, during the 2021 crop year, or during the 2022 crop year, as reported on the CLU(s) to FSA via a completed and signed Form 578-Report of Acreage on or before March 15, 2022, or May 31, 2022, for 2022 crop year qualifying cover crops planted after March 15, 2022, which may be prior to FSA's acreage reporting date.

* * * * *

§ 460.10 [Corrected]

3. On page 7930, in the first column, in paragraph (a)(3), “Only acreage reports that are filed or amended prior to March 15 will be considered for PCCP” is corrected to read

“Only acreage reports that are filed or amended prior to March 15, 2022, (or May 31, 2022, for 2022 crop year qualifying cover crops planted after March 15, 2022), will be considered for PCCP”.

Marcia Bunger,
Manager, Federal Crop Insurance Corporation.

[FR Doc. 2022-05785 Filed 3-18-22; 8:45 am]

BILLING CODE 3410-08-P